DEPARTMENT OF TRANSPORTATION

Maritime Administration

[Docket Number: MARAD-2001-8951]

Requested Administrative Waiver of the Coastwise Trade Laws

AGENCY: Maritime Administration, Department of Transportation.

ACTION: Invitation for public comments on a requested administrative waiver of the Coastwise Trade Laws for the vessel SPIRIT.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR Part 388 (65 FR 6905; February 11, 2000) that the issuance of the waiver will have an unduly adverse effect on a U.S.-vessel builder or a business that uses U.S.-flag vessels, a waiver will not be granted.

DATES: Submit comments on or before March 29, 2001.

ADDRESSES: Comments should refer to docket number MARAD-2001-8951. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-build Requirement

(1) Name of vessel and owner for which waiver is requested. Name of vessel: Spirit. Owner: Joshua T. Bloomgarden.

(2) Size, capacity and tonnage of vessel. According to the applicant: “Spirit is weighed in at 10 tons net weight and her length as measured from stern to bow is 37 feet length over all.”

(3) Intended use for vessel, including geographic region of intended operation and trade. According to the applicant: “I intend to use Spirit for charter of six persons or less, primarily for day sails, for clients who have little experience on a small sail vessel. My intention is to familiarize charter clients with the working of sails, and as an educational and recreational experience. During the charters I will explain the working of the vessel along with a presentation of historical and geographical facts along with discussions of environmental factors of our country's rivers and coasts.

Although initially I will be operating out of the New York area, along the Hudson River, I would like to request a waiver for the Eastern Seaboard (from Maine to Florida). In the Summer months I will be cruising up to Maine, and during the Winter months cruising down to Florida (with stops along the way). If I could take on occasional charter clients while cruising at these different locations it would give me the option of choosing various seasonal cruising destinations.”

(4) Date and Place of construction and (if applicable) rebuilding. Date of construction: Built in 1977. Place of construction: Built in Havant, Great Britain.

(5) A statement on the impact this waiver will have on other commercial passenger vessel operators. According to the applicant: “I don't believe the issuance of this waiver for Spirit would have a negative impact on existing commercial vessel operations. Charter of Spirit; would be a small, part time business, which would be for short day sails for six or less passengers. Existing commercial vessel operators would not be affected by my charter work. By exposing passengers with little experience on small vessels to the recreational and educational possibilities of spending time on the water I believe the impact would be to encourage them to seek out other vessels for further charter usage in the future”

(6) A statement on the impact this waiver will have on U.S. shipyards. According to the applicant: “I believe that this waiver would have a positive impact on US shipyards. By granting a charter waiver for Spirit I would be using local US shipyards to repair and maintain Spirit up to US Coast Guard safety standards. Also, Spirit is an English Pilothouse Motorsailor Ketch with a high bow and deep gunnels of a particular style and appearance as used in the North Sea of Great Britain. This type of vessel is not to my knowledge being constructed by US shipyards.”

Dated: February 21, 2001.
By Order of the Maritime Administrator.
Joel C. Richard,
Secretary, Maritime Administration.

[FR Doc. 01-4711 Filed 2-26-01; 8:45 am]

BILLING CODE 4910-81-P